DEPARTMENT OF DEFENSE

Department of the Army

Availability for Non-Exclusive, Exclusive, or Partially Exclusive Licensing of U.S. Patent Application Concerning Method and Compositions for Treating and Preventing Retinal Damage

AGENCY: Army Medical Research and Material Command, DOD.

ACTION: Notice.

SUMMARY: In accordance with 37 CFR 404.6, announcement is made of the availability for licensing of U.S Patent Application No. 09/590,174 entitled “Method and Compositions for Treating and Preventing Retinal Damage” filed June 9, 2000. Foreign rights are also available (PCT/USOO/15812). This patent has been assigned to the United States Government as represented by the Secretary of the Army.

ADDRESSES: Commander, U.S. Army Medical Research and Materiel Command ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: This invention relates to the use of dihydrolipoic acid and alpha-lipoic acid to treat and prevent retinal damage arising from physical forces such as laser beams and to compositions containing phenyl nitrones and dihydrolipoic acids or alpha-lipoic acid as neuroprotective agents. The protective effect is believed to be due to the metabolites ability to protect neurons by a direct antioxidant effect, recycling of antioxidant vitamins E and C by redox, enhancement of glutathione, creation of at least 8 species of free radicals, and enhancement of intracellular ATP. Such may be useful in glaucoma, temporal arteritis, macular degeneration, diabetic retinopathy, proliferative retinopathy, retinitis pigmentosa, and as an adjunctive prophylactic therapy prior to or following cataract surgery.

Luz D. Ortiz,
Army Federal Register Liaison Officer.

[FR Doc. 01-27865 Filed 11-5-01; 8:45 am]

BILLING CODE 3710-08-M